SMALL BUSINESS ADMINISTRATION

[License No. 03/73-0239]

Core Capital Partners II-S, L.P.; Notice Seeking Exemption Under Section 312 of the Small Business Investment Act, Conflicts of Interest

Notice is hereby given that Core Capital Partners II-S, L.P., 1717 K Street NW, Suite 920, Washington, DC 20006, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Core Capital Partners II-S, L.P. proposes to manage assets it sold to a third-party acquirer and held in a newly formed Special Purpose Vehicle (“SPV”) as the General Partner of SPV.

The financing is brought within the purview of § 107.730(a) and (e) of the Regulations because SPV, an Associate of Core Capital Partners II-S, L.P., owns more than ten percent of the same assets held by Core Capital Partners II-S, LP, and therefore this transaction is considered a financing in which an Associate is used to manage Portfolio Concerns.

Notice is hereby given that any interested person may submit written comments on the transaction, within fifteen days of the date of this publication, to the Associate Administrator for Investment, U.S. Small Business Administration, 409 Third Street SW, Washington, DC 20416.

Dated: December 13, 2017.
A. Joseph Shepard,
Associate Administrator, Office of Investment and Innovation.

[FR Doc. 2017-28384 Filed 1-2-18; 8:45 am]

BILLING CODE 8025-01-P